DEPARTMENT OF ENERGY

Federal Energy Regulatory Commission

Combined Notice of Filings #1

Take notice that the Commission received the following electric corporate filings:

Docket Numbers: EC21-36-000.

Applicants: Lea Power Partners, LLC, Waterside Power, LLC, Badger Creek Limited, Bear Mountain Limited, Chalk Cliff Limited, Double C Generation Limited Partnership, High Sierra Limited, Kern Front Limited, Live Oak Limited, McKittrick Limited, WGP Redwood Holdings, LLC.

Description: Application for Authorization Under Section 203 of the Federal Power Act of Lea Power Partners, LLC, et. al.

Filed Date: 12/18/20.

Accession Number: 20201218-5373.

Comments Due: 5 p.m. ET 1/8/21.

Take notice that the Commission received the following electric rate filings:

Docket Numbers: ER10-1123-005; ER10-1119 005.

Applicants: Union Electric Company, Ameren Illinois Company.

Description: Triennial Market Power Update for Central Region of Ameren Companies.

Filed Date: 12/18/20.

Accession Number: 20201218-5255.

Comments Due: 5 p.m. ET 2/16/21.

Docket Numbers: ER10-1257-008; ER10-1258-008.

Applicants: Wabash Valley Power Association, Inc., Wabash Valley Energy Marketing, Inc.

Description: Triennial Market Power Update for Central Region of Wabash Valley Power Association, Inc., et al.

Filed Date: 12/18/20.

Accession Number: 20201218-5252.

Comments Due: 5 p.m. ET 2/16/21.

Docket Numbers: ER10-1819-028; ER10-1820-031.

Applicants: Northern States Power Company, a Minnesota corporation, Northern States Power Company, a Wisconsin corporation.

Description: Triennial Market Power Analysis for Central Region of Northern States Power Company, a Minnesota corporation, et al.

Filed Date: 12/18/20.

Accession Number: 20201218-5257.

Comments Due: 5 p.m. ET 2/16/21.

Docket Numbers: ER16-323-009.

Applicants: Ohio Valley Electric Corporation.

Description: Triennial Market Power Analysis for Central Region of Ohio Valley Electric Corporation.

Filed Date: 12/18/20.

Accession Number: 20201218-5258.

Comments Due: 5 p.m. ET 2/16/21.

Docket Numbers: ER18-807-006; ER10-1852-046; ER10-1951-028; ER11-4462-049; ER17-838-024.

Applicants: Pinal Central Energy Center, LLC, Florida Power & Light Company, NEPM II, LLC, NextEra Energy Services Massachusetts, LLC, NextEra Energy Marketing, LLC.

Description: Notice of Change in Status of NextEra Entities.

Filed Date: 12/18/20.

Accession Number: 20201218-5248.

Comments Due: 5 p.m. ET 1/8/21.

Docket Numbers: ER20-486-001.

Applicants: Golden Fields Solar III, LLC.

Description: Notice of Change in Status of Golden Fields Solar III, LLC.

Filed Date: 12/18/20.

Accession Number: 20201218-5250.

Comments Due: 5 p.m. ET 1/8/21.

Docket Numbers: ER21-690-000.

Applicants: Midcontinent Independent System Operator, Inc., Otter Tail Power Company.

Description: § 205(d) Rate Filing: 2020-12-21_SA 3605 OTP-CPEC FCA (WAPA Jamestown) to be effective 2/20/2021.

Filed Date: 12/21/20.

Accession Number: 20201221-5030.

Comments Due: 5 p.m. ET 1/11/21.

Docket Numbers: ER21-691-000.

Applicants: Public Service Company of Colorado.

Description: § 205(d) Rate Filing: 2020-12-21 PSC-GndVly-NonConf-SISA-619-0.0.0 to be effective 12/22/2020.

Filed Date: 12/21/20.

Accession Number: 20201221-5062.

Comments Due: 5 p.m. ET 1/11/21.

Docket Numbers: ER21-692-000.

Applicants: Southern California Edison Company.

Description: § 205(d) Rate Filing: Letter Agreement Corona Porphyry Interconnection Project SA No. 1132 to be effective 12/22/2020.

Filed Date: 12/21/20.

Accession Number: 20201221-5064.

Comments Due: 5 p.m. ET 1/11/21.

Docket Numbers: ER21-693-000.

Applicants: Midcontinent Independent System Operator, Inc.

Description: § 205(d) Rate Filing: 2020-12-21_LMR Performance Evaluation Filing to be effective 7/1/2021.

Filed Date: 12/21/20.

Accession Number: 20201221-5112.

Comments Due: 5 p.m. ET 1/11/21.

Docket Numbers: ER21-694-000.

Applicants: PacifiCorp.

Description: § 205(d) Rate Filing: BPA Construction Agmt—Conversion Ross-Lex-Swift Rev 3 to be effective 2/20/2021.

Filed Date: 12/21/20.

Accession Number: 20201221-5115.

Comments Due: 5 p.m. ET 1/11/21.

Docket Numbers: ER21-695-000.

Applicants: Avista Corporation.

Description: § 205(d) Rate Filing: Avista Corp. BPA Walla Walla Wanapum Construction Agreement SA T1168 to be effective 12/22/2020.

Filed Date: 12/21/20.

Accession Number: 20201221-5155.

Comments Due: 5 p.m. ET 1/11/21.

Take notice that the Commission received the following electric securities filings:

Docket Numbers: ES21-10-000.

Applicants: California Independent System Operator Corporation.

Description: Supplement to November 5, 2020 Application and Request for Shortened Comment Period of California Independent System Operator Corporation.

Filed Date: 12/17/20.

Accession Number: 20201217-5216.

Comments Due: 5 p.m. ET 12/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2020.
Kimberly D. Bose,
Secretary.

[FR Doc. 2020-28718 Filed 12-28-20; 8:45 am]

BILLING CODE 6717-01-P